DEPARTMENT OF THE INTERIOR

Bureau of Land Management

[NV-060-3809]

Notice of Availability for the Record of Decision and Plan of Operations Approval for the Phoenix Project Final Environmental Impact Statement; Lander County, NV

AGENCY: Bureau of Land Management, Interior.

ACTION: Notice of availability of the Record of Decision (ROD).

SUMMARY: In accordance with the National Environmental Policy Act (NEPA), the Bureau of Land Management (BLM) has issued a Record of Decision for the Phoenix Project Final Environmental Impact Statement (EIS) and Plan of Operations Approval for the Phoenix Project in Lander County, NV.

EFFECTIVE DATE: Appeals of the decision must be post-marked or otherwise delivered by 4:30 p.m. thirty days after the date of the publication of the notice in the Federal Register.

ADDRESSES: Copies of the Record of Decision are available at the BLM, Battle Mountain Field Office, 50 Bastian Road, Battle Mountain, NV 89820.

FOR FURTHER INFORMATION CONTACT: Pam Jarnecke, Battle Mountain BLM at (775) 635-4144.

SUPPLEMENTARY INFORMATION: Battle Mountain Gold Company (BMG), a wholly owned subsidiary of Newmont Mining Corporation, has been approved to expand its current operations near Battle Mountain, Nevada, to include mining and beneficiation of gold, silver, and copper ores. The proposed Phoenix Project would require up to an additional 4,308 acres of disturbance. BMG would develop the Phoenix and Reona pits and expand the Midas and Iron Canyon pits. Mining these ore deposits would be coupled with excavating and beneficiating low-grade gold ore stockpiles associated with the previous Tomboy, Northeast Extension, and Fortitude mining operations. Beneficiation operations would include heap leach facility expansion and new milling facilities. The projected mine life is up to 28 years, followed by 5 years of reclamation.

Dated: December 2, 2003.
Gerald M. Smith,
Field Manager, Battle Mountain Field Office.

[FR Doc. 04-3484 Filed 2-18-04; 8:45 am]

BILLING CODE 4310-HC-P